DEPARTMENT OF THE INTERIOR

National Park Service

Delaware Water Gap National Recreation Area Citizen Advisory Commission Meeting

AGENCY: National Park Service; Interior.

ACTION: Notice of Meeting.

SUMMARY: This notice announces three public meetings of the Delaware Water Gap National Recreation Area Citizen Advisory Commission. Notice of these meetings is required under the Federal Advisory Committee Act (Public Law 92-463).

Meeting Date and Time: Saturday, March 18, 2000 at 9:00 a.m.

Address: Bushkill Visitor Center, U.S. Route 209, Bushkill, PA 18324.

Annual Meeting of the Citizen Advisory Commission.

Date and Time: Immediately following the regular public meeting listed above.

Address: Bushkill Visitor Center, U.S. Route 209, Bushkill, PA 18324.

Meeting Date and Time: Thursday, June 15, 2000 at 7:00 p.m.

Address: New Jersey District Office, Route 615, Walpack, NJ.

The agenda will include reports from Citizen Advisory Commission committees including: Natural Resources and Recreation, Cultural and Historical Resources, Inter-governmental and Public Affairs, Construction and Capital Project Implementation, and Interpretation, as well as Special Committee Reports. Superintendent Bill Laitner will give a report on various park issues. The March 18, 2000, meeting will be followed by the Annual Commission meeting which involves election of officers. The meeting will be open to the public and there will be an opportunity for public comment on this issue.

SUPPLEMENTARY INFORMATION: The Delaware Water Gap National Recreation Area Citizen Advisory Commission was established by Public Law 100-573 to advise the Secretary of the Interior and the United States Congress on matters pertaining to the management and operation of the Delaware Water Gap National Recreation Area, as well as on other matters affecting the recreation area and its surrounding communities.

FOR FURTHER INFORMATION CONTACT: Superintendent, Delaware Water Gap National Recreation Area, Bushkill, PA 18324, 570-588-2418.

Dated: January 27, 2000.
William G. Laitner,
Superintendent.

[FR Doc. 00-4632 Filed 2-25-00; 8:45 am]

BILLING CODE 4310-70-P